DEPARTMENT OF HEALTH AND HUMAN SERVICES

Centers for Disease Control and Prevention

Advisory Committee to the Director (ACD), Centers for Disease Control and Prevention—Ethics Subcommittee (ES)

In accordance with section 10(a)(2) of the Federal Advisory Committee Act (Pub. L. 92-463), the Centers for Disease Control and Prevention (CDC) announces the following meeting of the aforementioned subcommittee:

Time and Date: 8:30 a.m.-2:30 p.m., EDT, Thursday, October 11, 2012.

Place: CDC, Thomas R. Harkin Global Communications Center, Distance Learning Auditorium, 1600 Clifton Road, NE., Atlanta, GA 30333. This meeting is also available by teleconference. Please dial (877) 928-1204 and enter code 4305992.

Status: Open to the public, limited only by the space available. The meeting room accommodates approximately 60 people. To accommodate public participation in the meeting, a conference telephone line will be available. The public is welcome to participate during the public comment period. The public comment period is tentatively scheduled for 2 p.m.-2:10 p.m.

Purpose: The ES will provide counsel to the ACD, CDC, regarding a broad range of public health ethics questions and issues arising from programs, scientists and practitioners.

Matters To Be Discussed: Agenda items will include the following topics: Ethical considerations relating to use of travel restrictions for the control of communicable diseases; addition of ethics standards to the accreditation process for public health departments; approaches for evaluating the impact of public health ethics activities; progress on developing practical tools to assist state, tribal, local, and territorial health departments in their efforts to address public health ethics challenges; and strategies for increasing collaboration between public health ethics and public health law.

The agenda is subject to change as priorities dictate.

Contact Person for More Information: For security reasons, members of the public interested in attending the meeting should contact Drue Barrett, Ph.D., Designated Federal Officer, ACD, CDC—ES, 1600 Clifton Road NE., M/S D-50, Atlanta, Georgia 30333. Telephone: (404) 639-4690. Email: dbarrett@cdc.gov. The deadline for notification of attendance is October 1, 2012.

The Director, Management Analysis and Services Office, has been delegated the authority to sign Federal Register notices pertaining to announcements of meetings and other committee management activities, for both the Centers for Disease Control and Prevention and the Agency for Toxic Substances and Disease Registry.

Dated: September 12, 2012.
Elaine L. Baker,
Director, Management Analysis and Services Office, Centers for Disease Control and Prevention.

[FR Doc. 2012-23192 Filed 9-19-12; 8:45 am]

BILLING CODE 4163-18-P